DEPARTMENT OF COMMERCE

National Technical Information Service

[Docket No.: 191122-0088]

Opportunity To Enter Into a Joint Venture Partnership With the National Technical Information Service for Data Innovation Support

AGENCY: National Technical Information Service, Department of Commerce.

ACTION: Notice.

SUMMARY: The National Technical Information Service (NTIS) requests proposals from interested private-sector organizations to assist Federal agencies in the development and implementation of innovative ways to collect, connect, access, secure, analyze, disseminate and enable effective and efficient use of data to address unique and complex national data priorities. Specifically, NTIS is interested in partnering with organizations that have specialized skills and capabilities in applied data science areas, such as artificial intelligence, machine learning, robotics, and cybersecurity, to assist the Federal government in leveraging data as a strategic asset to achieve Federal agency mission outcomes. Organizations that are selected in accordance with the evaluation criteria and selection process set forth in this notice will be invited to enter into a joint venture partnership agreement with NTIS to be eligible to compete for Federal data service opportunities identified by NTIS in cooperation with other Federal agencies. In accordance with the President's Executive Order on Advancing Racial Equity and Support for Underserved Communities Through the Federal Government, E.O. 13985 of Jan 20, 2021, NTIS encourages all individuals and organizations to apply who meet the listed qualifications and requirements in this notice, including those who come from underserved communities, such as Black, Latino, Indigenous and Native American, Asian Americans and Pacific Islanders and other persons of color; members of religious minorities; lesbian, gay, bisexual, transgender, and queer (LGBTQ+) persons; persons with disabilities; persons who live in rural areas; and persons otherwise adversely affected by persistent poverty or inequality and the organizations that support these individuals and groups.

DATES: Proposals will be received and evaluated on an ongoing basis. Proposals will not be accepted after August 24, 2024. This Notice replaces the notice published on December 13, 2019, 84 FR 68147. Applicants that have already submitted proposals under the 2019 notice do not need to resubmit under this notice.

ADDRESSES: Submit proposals electronically, with the subject line “Opportunity to Enter into a Joint Venture Partnership with the National Technical Information Service for Data Innovation Support”, by emailing both OpportunityAnnouncement@ntis.gov and Randy Caldwell at rcaldwell@ntis.gov.

FOR FURTHER INFORMATION CONTACT: Randy Caldwell at (703) 605-6321, or by email at rcaldwell@ntis.gov.

SUPPLEMENTARY INFORMATION:

I. Introduction/Background for Potential Joint Venture Partners (JVPs)

NTIS, an agency of the U.S. Department of Commerce, is seeking proposals from potential JVPs that can work with NTIS to assist Federal agencies to leverage innovative ways to collect, connect, access, secure, analyze, disseminate and enable effective and efficient use of data to address unique and complex national data priorities.

Federal agencies are currently addressing national issues in such areas as fraud detection, improper payments, public services, health and safety, cybersecurity, technology transfer, supply chain optimization, and internal requirements to operate more effectively and efficiently. Addressing these mission-critical data issues requires new capabilities in machine learning, artificial intelligence, predictive analytics and other advanced data science expertise. See OMB M-19-18 ¹ and Executive Order 13859.² Federal agencies that need the data services of NTIS and its JVPs require holistic solutions that may require the application of multiple data and technological capabilities in new and innovative ways in order to support the agencies' strategic plans and mission-critical priorities. Many of the challenges facing Federal agencies are at the intersection of data science and information technology (IT) modernization. Solutions often require related capabilities in emerging technologies, innovation, change management, and agile delivery methods. Mission areas that NTIS supports include, but are not limited to, fraud detection, public services, health and safety, technology transfer, and national security.

¹ https://www.whitehouse.gov/wp-content/uploads/2019/06/M-19-18.pdf.

² https://www.federalregister.gov/documents/2019/02/14/2019-02544/maintaining-american-leadership-in-artificial-intelligence.

Activities conducted by NTIS and its JVPs in support of other Federal agencies may include: (1) Designing, testing, analyzing, or demonstrating the application of Federal data and data services, either alone or in combination with non-Federal data; (2) based on Federal data or the use of Federal data in some combination with open Federal data and non-Federal data, facilitating the creation of suites of products, platforms, and services that assist Federal agencies in meeting the needs of businesses, innovators, government agencies, and others; and (3) otherwise enhancing data discovery and usability, data interoperability and standards, data analytics and forecasting, or data infrastructure and security. Projects that can be accomplished by a Federal agency via a commercial-off-the-shelf (COTS) procurement or acquisition action will not be conducted by NTIS with its JVPs.

Organizations that enter into joint venture partnership agreements with NTIS, pursuant to this notice, will have opportunities to engage in early discussions about projects with NTIS and the sponsoring Federal agencies and may subsequently compete for the opportunity to work with NTIS to provide data services on specific projects under a merit-based selection process established by NTIS.

Under a separate notice that will be published in the Federal Register (“assistive technologies JVPs notice”), NTIS will accept proposals from interested private-sector organizations to become a JVP eligible to work with NTIS on projects involving assistive technologies. JVPs selected under the instant notice will not be eligible to compete for assistive technology project opportunities with NTIS unless they also apply and are selected under the assistive technologies JVPs notice. Organizations that enter into JVP agreements with NTIS pursuant to the assistive technologies notice will not be eligible to compete for data innovation opportunities with NTIS unless they also apply and are selected under the instant notice. Organizations selected under the instant notice will be eligible to work with NTIS on projects involving the types of data innovation described in this notice.

The Secretary of Commerce (Secretary) has delegated to NTIS authority to operate as a permanent clearinghouse of scientific, technical, and engineering information and to collect and disseminate such information. 15 U.S.C. 1152. The National Technical Information Act of 1988, codified at 15 U.S.C. 3704b, additionally accorded the Secretary, acting through NTIS, the authority to enter into joint ventures, and declared the clearinghouse to be a permanent Federal function that could not be privatized without Congressional approval. The National Technical Information Act of 1988 was amended by section 506(c) of the American Technology Preeminence Act of 1991 (Pub. L. 102-245), which directed NTIS to focus on developing new electronic methods and media for information dissemination.

As the nature and scope of information and data dissemination have changed, NTIS has continued to focus on innovations to address these changes. New capabilities are available in application program interfaces (APIs) as conduits for data dissemination that have significantly improved data use, interoperability, and accessibility. Artificial intelligence, machine learning, and predictive analytics are transforming how data are analyzed and managed to support national priorities in fraud detection, emergency preparedness, cybersecurity, citizen services, and in promoting health and public safety.

Using its joint venture authority, NTIS has established a unique joint venture partnership program that has resulted in a number of innovative data service projects across the Federal government that allow other Federal agencies to address national priorities more efficiently and effectively.

Specifically, through NTIS' joint venture partnership program, NTIS will (1) accelerate private-sector use of Federal government data, either alone or in combination with non-Federal data, for the development and use of new and improved data products and services, and (2) accelerate the Federal government's use of data to improve the effectiveness and efficiency of Federal programs and thus improve mission outcomes.

The NTIS joint venture partnership program enables NTIS to structure joint venture partnership agreements with the private sector and interagency agreements with Federal agencies that offer the best combination of speed, agile applications development, and performance for delivering integrated innovative data services and solutions. NTIS manages joint venture projects in a highly flexible, interactive, and collaborative manner with its customer Federal agencies and JVPs throughout the project lifecycle.

Joint ventures are not procurements or acquisitions and do not result in contracts under the Federal Acquisition Regulation (FAR). Joint ventures involve the investment of resources by NTIS and its JVPs, with a formal agreement for the sharing of revenues associated with the venture. The joint venture partnerships provide data services that allow customer Federal agencies to accelerate the time it takes to achieve mission outcomes. The joint venture partnerships accomplish this by using innovative and creative methods of collecting, connecting, accessing, securing, analyzing, disseminating and enabling effective and efficient use of Federal data and non-Federal data.

II. General Scope

Technical Requirements

Proposals must address at least one of the following two technical requirements by demonstrating the proposer's capabilities to deliver data-driven innovations. The proposer must explicitly state in the proposal which area(s) are addressed.

1. Innovations in the use of data and data services to leverage data as a strategic asset to improve business processes and mission outcome. The proposal must include a description of how the proposer would contribute innovations in the use of data and data services. The scope of this area includes data science and engineering innovations and the ability to integrate and deliver complete data-driven solutions associated with (a) making it easier to use data through data cleansing and improved interoperability; (b) searching, discovering, combining, analyzing, disseminating, and using Federal government data, either alone or in combination with non-Federal data, in new ways; and (c) implementing innovative and secure data infrastructures to advance artificial intelligence (AI) and machine learning for enabling cybersecurity, and creating cloud based analytic data platforms that deliver capabilities for data analytics through highly scalable infrastructure.

2. Analysis, interpretation, and understanding of data, as well as meaningful application of the analysis and interpretation, to automate business processes, predict future events and prescribe potential solutions. The proposal must describe how the proposer would use AI, machine learning, and robotics to improve the analysis, interpretation, understanding, and application of either static or real time data to achieve innovations in business processes automation, supply chains, and overall mission outcome.

Additional Requirements

NTIS will enter into joint venture partnership agreements in accordance with all relevant provisions of applicable Federal law. Any proposal that has the appearance of circumventing the FAR or other agency acquisition requirements will be determined to be non-responsive to this notice during the initial phase of the selection process and will not be considered further. Proposers must acknowledge and address the following terms in their proposals:

• Data received from a Federal agency and from non-Federal organizations as part of a project performed by NTIS with a JVP may only be accessed and utilized for project purposes consistent with all applicable statutory and regulatory provisions and all relevant agreements.

• Federal agencies and private-sector organizations that provide data as part of a project performed by NTIS with a JVP will retain ownership of the data rights. Federal agencies and private-sector organizations may be requested to provide licenses to use the data for the purposes of a project.

• At a minimum, systems, programs, and applications included in the proposal must comply with the documented security assessment and authorization (A&A) policies issued by the Office of Management and Budget (OMB), standards and guidance issued by the National Institute of Standards and Technology (NIST), and the Federal Information Security Modernization Act of 2014 (FISMA) (44 U.S.C. 3551 et seq.), before the systems, programs, and applications are offered to Federal agencies under a joint venture partnership.

• JVPs who are selected and enter into joint venture partnership agreements pursuant to this notice will be eligible to submit proposals for specific project opportunities. Eligible JVPs interested in such opportunities will be required to submit a proposal in response to an opportunity announcement for specific projects within a short time period, typically two to three weeks.

• Proposers must have the ability to accept electronic fund transfers.

• NTIS will not guarantee that any revenue will be generated for the JVP merely by entering into a joint venture partnership agreement with NTIS.

• Proposers must have the ability to fund their portion of any projects commenced pursuant to a joint venture partnership agreement for a period of time, which may differ for individual projects, due to Federal accrual accounting practices. NTIS does not allow (and has never offered) financial incentives for entering into joint venture partnership agreements. NTIS will not provide advance payments to JVPs.

III. Requested Response

NTIS seeks to enter into joint venture partnership(s) with one or more partners to assist Federal agencies in furthering their missions in innovative and creative ways by enabling government agencies and the public with improved access to, or analysis, collection, or use of Federal data and data services, either alone or in combination with non-Federal data. NTIS and its JVPs provide data services for speedy execution of innovative projects, typically involving one or more of the following attributes: (a) First or early use of emerging technology; (b) complexity of solution architecture, interoperability, and/or security; (c) agile applications development and systems operations, which require adaptive scoping; or (d) custom solutions to meet unique requirements without COTS solutions.

Proposers are encouraged to include proposed teams of private-sector organizations, which may include small and medium-size enterprises and start-ups that bring unique and innovative capabilities for delivering data science capabilities. Proposals should describe any proposed teaming arrangements and solution integration capabilities, including the relationships among the parties, how the team would function, and how the team may be augmented to fill missing capabilities. Although teaming arrangements are encouraged, the JVP itself will be expected to provide at least 50 percent of the labor on each project for which it is selected. NTIS will evaluate each proposal and may solicit oral presentations from some or all proposers. Where appropriate, NTIS, in its discretion, may reach out to selected JVPs for teaming arrangements on future projects that involve emerging and/or cutting-edge capabilities that fall within NTIS' mission.

Proposal Submission Information

The proposal is a word-processed document of no more than fifteen (15) single-spaced pages responsive to the evaluation criteria set forth below. Any pages submitted beyond the 15-page limit will not be considered. Each proposal page layout should be 8.5 inches by 11 inches with 1-inch margins. The font for the proposal should be Times New Roman 12 point or similar font in readable size (no less than 10 point). All submissions must be made in electronic format and submitted in accordance with the ADDRESSES section above. All proposals are subject to the False Claims Amendments Act of 1986, 31 U.S.C. 3729 and 18 U.S.C. 287, as well as the False Statements Accountability Act of 1996, 18 U.S.C 1001. In accordance with Federal appropriations law, an authorized representative of the selected proposer(s) may be required to provide certain certifications regarding Federal felony and Federal criminal tax convictions, unpaid Federal tax assessments, and delinquent Federal tax returns.

Proposal Technical, Administrative and Business Information

The proposal must address each of the evaluation criteria set forth in the following section and should include all of the information set forth in this section in a manner sufficient to allow each section to be reviewed against the evaluation criteria set forth below. Each section of the proposal should include a brief title or description of its content.

(1) The proposal to become a JVP must include a capability statement that describes the nature and scope of the organization's expertise to perform data services to address mission-critical Federal data requirements. The proposal must include: (a) A description of technical capabilities in each area of data innovation that the proposer and, where applicable, its team, will address; (b) examples of up to three major projects where the proposer and, where applicable, its team, have demonstrated data innovations using the technical capabilities; if the proposer and, where applicable, its team, have not conducted projects in which they have demonstrated data innovations using the technical capabilities, the proposer should include instead a description of how it would go about doing so; (c) a description of the professional accomplishments, skills, certifications, and training of the personnel proposed to provide the technical capabilities and perform the work proposed in the proposal, including each individual whose innovative technical capabilities are critical to the development or execution of joint venture projects in a substantive and measurable way; and (d) a description of the resources, such as staff, partnerships, integration and project management capabilities, contracts, or technologies, that the proposer would use to achieve these innovations. This information will be considered against evaluation criteria 1 through 3 below.

(2) The proposal may include any other information that the proposer thinks will assist reviewers in their evaluation of the proposal against the evaluation criteria described below.

To the extent permitted by law, including the Freedom of Information Act (FOIA), 5 U.S.C. 552, NTIS will not disclose confidential or proprietary information provided and clearly marked in any proposal submitted in response to this notice without providing the organization that submitted such information the opportunity to object to the potential release of the information. If NTIS receives a request for disclosure of confidential or proprietary information, it will promptly notify the submitting organization in writing and give it an opportunity to demonstrate that NTIS should withhold the information in accordance with Department of Commerce FOIA regulations (15 CFR part 4).

Evaluation Criteria

The evaluation criteria for the proposals are as follows:

(1) Rationality (0-35 points).

The extent to which the logic and soundness of the proposer's approach to enable data innovations that will address Federal data priorities by (a) advancing the use of data as a strategic asset to achieve mission outcome and support evidence-based policies; (b) transforming and optimizing supply chains through the use of data science capabilities; (c) promoting data governance and standardization; and (d) creating new capabilities for data discovery, data set search, and interoperability to connect and derive new insights for predictive analytics and prescriptive actions.

(2) Technical Merit of Contribution (0-30 points).

The technical effectiveness and innovation of the proposed capabilities and past work or plans for providing such capabilities described in the proposal and the extent to which they would contribute to the fields of data science, AI, engineering, or best practices relevant to the services to be provided by NTIS and its JVPs as described in the General Scope section of this announcement.

(3) Organizational Qualifications and Resource Availability (0-35 points).

The likelihood that the professional accomplishments, data services and solution integration delivery experience, skills, certifications, and training of the personnel proposed to provide the technical capabilities and perform the work proposed in the proposal, including all individuals whose innovative technical capabilities are critical to the development or execution of joint venture projects in a substantive and measurable way as identified in the proposal, will contribute to the successful execution of projects; and the extent to which the proposer has access to the necessary equipment, tools, facilities, technologies, and overall support and resources to accomplish proposed objectives and work jointly with NTIS to accomplish project goals.

Evaluation and Selection Process

All proposals received before the end date set forth in the DATES section of this notice will be reviewed to determine whether they are submitted by a private-sector organization (eligible), contain all required technical, business and administrative information (complete), and are responsive to this notice. Proposals determined to be ineligible, incomplete, and/or non-responsive based on the initial screening will be eliminated from further review. However, NTIS, in its sole discretion, may continue the review process for a proposal that is missing non-substantive information that can easily be rectified or cured.

All proposals that are determined to be eligible, complete, and responsive will proceed for full reviews in accordance with the review and selection process set forth below.

At least three (3) objective individuals, knowledgeable about the particular technical areas described in the proposal, will review the merits of each proposal based on the evaluation criteria. The reviewers may discuss the proposals with each other, but scores will be determined on an individual basis, not as a consensus. NTIS may solicit oral presentations from some or all proposers.

The Selecting Official, who is the NTIS Deputy Director or designee, will make final proposal selections, taking into consideration the results of the reviewers' evaluations, relevance to the scope and objectives described in this notice, the distribution of proposals across technical areas, and the distribution of proposers among a diverse set of qualified organizations. A diverse set of qualified organizations would include large, medium, and small organizations that may be for-profit or non-profit and that have both unique and discrete data science capabilities and specialized expertise and experience in integrating such capabilities for holistic, complete solutions.

Notification of Results

Unsuccessful proposers will be notified in writing. Proposers whose proposals are selected will be notified and will be provided with a standard NTIS joint venture partnership agreement for execution. Each joint venture partnership agreement entered into between a selected proposer and NTIS will incorporate the selected proposer's proposal by reference. NTIS will not be responsible for any costs incurred by any proposer prior to execution of a joint venture partnership agreement.

Dated: July 30, 2021.
Gregory Capella,
Deputy Director, National Technical Information Service.

[FR Doc. 2021-16581 Filed 8-3-21; 8:45 am]

BILLING CODE 3510-04-P